DEPARTMENT OF THE TREASURY

United States Mint

Notification of Pricing for United States Mint 2009 Lincoln Cent Two-Roll Set

ACTION: Notification of Pricing for United States Mint 2009 Lincoln Cent Two-Roll Set.

SUMMARY: The United States Mint is announcing the price of the 2009 Lincoln Cent Two-Roll Set.

The 2009 Lincoln Cent Two-Roll Set will contain one roll of coins struck at the United States Mint at Philadelphia and one roll of coins struck at the United States Mint at Denver. Four sets will be sold throughout the year, one set for each of the four designs of one-cent coins minted in 2009. Each set will be priced at $8.95.

The first 2009 Lincoln Cent Two-Roll Set will be offered for sale on March 13, 2009.

FOR FURTHER INFORMATION CONTACT: B.B. Craig, Associate Director for Sales and Marketing; United States Mint; 801 Ninth Street, NW.; Washington, DC 20220; or call 202-354-7500.

Authority: 31 U.S.C. 5111, 5112 & 9701; Public Law 109-145, Title III (Dec. 22, 2005).

Dated: March 9, 2009.
Edmund C. Moy,
Director, United States Mint.

[FR Doc. E9-5503 Filed 3-12-09; 8:45 am]

BILLING CODE 4810-37-P